DEPARTMENT OF THE INTERIOR

Fish and Wildlife Service

Notice of Availability of the Recovery Plan for the Endangered Vermilion Darter

AGENCY: Fish and Wildlife Service, Interior.

ACTION: Notice of document availability.

SUMMARY: We, the Fish and Wildlife Service, announce the availability of the final recovery plan for the endangered vermilion darter (Etheostoma chermocki). The vermilion darter is a medium-sized darter found only in the Turkey Creek drainage, Jefferson County, Alabama. The recovery plan includes specific recovery objectives and criteria to be met to delist the vermilion darter under the Endangered Species Act of 1973, 16 U.S.C. 1531 et seq., as amended (Act).

ADDRESSES: You may obtain a copy of the recovery plan by visiting our recovery plan website on the Internet at http://endangered.fws.gov/recovery/index.html#plans or by contacting the Jackson Field Office, Fish and Wildlife Service, 6578 Dogwood View Parkway, Suite A, Jackson, Mississippi 39213 (Telephone 601/321-1127).

FOR FURTHER INFORMATION CONTACT: Daniel Drennen at the above address and telephone number.

SUPPLEMENTARY INFORMATION:

Background

The vermilion darter (Etheostoma chermocki (Teleostei: Percidae)) was officially described in 1992 from Turkey Creek, a tributary of the Locust Fork, which is within the Black Warrior River drainage of Jefferson County, Alabama. The vermilion darter belongs to the subgenus Ulocentra (snubnose darters) which includes fish that are slightly laterally compressed, have complete lateral lines, broadly connected gill membranes, a short head, and a small pronounced mouth. The vermilion darter is a medium-sized darter, reaching about 7.1 centimeters (2.8 inches) total length (length from tip of snout to longest portion of tail fin). The vermilion darter was listed as endangered under the Act on November 28, 2001 (66 FR 59367).

The current range of the vermilion darter is 14.1 kilometers (km) (8.7 miles (mi)) of the main stem of Turkey Creek, the lowermost reaches (0.8 km (0.5 mi)) of Dry and Beaver creeks and within a spring run of an unnamed spring that drains into Beaver Creek along Alabama Highway 79. Restricted and localized in range, the vermilion darter is vulnerable to sedimentation (excess sediments suspended or deposited in a stream), nutrificiation (excessive nutrients present, such as nitrogen and phosphorus), and barriers or restrictions to stream flow.

Restoring an endangered or threatened animal or plant to the point where it is again a secure, self-sustaining member of its ecosystem is a primary goal of the Act and of our endangered species program. To help guide the recovery effort, we prepare recovery plans for most listed species. Recovery plans describe actions considered necessary for conservation of the species, establish criteria for downlisting or delisting them, and estimate time and cost for implementing recovery measures.

The Act requires the development of recovery plans for listed species unless such a plan would not promote the conservation of a particular species. Section 4(f) of the Act requires us to provide public notice and an opportunity for public review and comment during recovery plan development. A notice of availability of the technical agency draft for the vermilion darter was published in the Federal Register on July 21, 2005 (70 FR 42087). A 60-day comment period was opened with the notice, closing on September 19, 2005. We received comments from four parties, including comments from one peer reviewer of the recovery plan. Comments and information submitted were considered in the preparation of this final plan and, where appropriate, incorporated.

The objective of this recovery plan is to provide a framework for the recovery of the vermilion darter until that protection under the Act is no longer necessary. As recovery criteria are met, the status of the species will be reviewed, and it will be considered for removal from the Federal List of Endangered and Threatened Wildlife and Plants (50 CFR part 17). Actions needed to recover the vermilion darter include: (1) Protect vermilion darter populations and habitat; (2) ensure and support implementation of effective protective actions; (3) determine habitat requirements and population information of the vermilion darter; (4) determine the necessary husbandry techniques of the species, to produce them in captivity and establish an additional population in the known range; (5) identify, acquire, and restore properties in the Turkey Creek watershed; and (6) promote partnerships and voluntary stewardship within the watershed.

Authority

The authority for this action is section 4(f) of the Endangered Species Act, 16 U.S.C. 1533(f).

Dated: June 19, 2007.
Cynthia K. Dohner,
Acting Regional Director.

[FR Doc. E7-15024 Filed 8-1-07; 8:45 am]

BILLING CODE 4310-55-P